DEPARTMENT OF VETERANS AFFAIRS

[OMB Control No. 2900-0605]

Agency Information Collection (Application for Accreditation as a Claims Agent or Attorney) Under OMB Review

AGENCY: Office of General Counsel, Department of Veterans Affairs.

ACTION: Notice.

SUMMARY: In compliance with the Paperwork Reduction Act (PRA) of 1995 (44 U.S.C. 3501-3521), this notice announces that the Office of General Counsel (OGC), Department of Veterans Affairs, has submitted the collection of information abstracted below to the Office of Management and Budget (OMB) for review and comment. The PRA submission describes the nature of the information collection and its expected cost and burden; it includes the actual data collection instrument.

DATES: Comments must be submitted on or before June 1, 2011.

ADDRESSES: Submit written comments on the collection of information through http://www.Regulations.gov or to VA's OMB Desk Officer, OMB Human Resources and Housing Branch, New Executive Office Building, Room 10235, Washington, DC 20503 (202) 395-7316. Please refer to “OMB Control No. 2900-0605” in any correspondence.

FOR FURTHER INFORMATION CONTACT: Denise McLamb, Enterprise Records Service (005R1B), Department of Veterans Affairs, 810 Vermont Avenue, NW., Washington, DC 20420, (202) 461-7485, FAX (202) 461-0966 or e-mail denise.mclamb@va.gov. Please refer to “OMB Control No. 2900-0605.”

SUPPLEMENTARY INFORMATION: Titles:

a. Application for Accreditation as a Claims Agent or Attorney, VA Form 21a.

b. Filing of Representatives' Fee Agreements.

c. Motions for Review of Such Fee Agreements.

OMB Control Number: 2900-0605.

Type of Review: Extension of a currently approved collection.

Abstract: Applicants seeking accreditation as claims agents or attorneys to represent benefits claimants before VA must complete VA Form 21a. The applicant is required to file the application with VA General Counsel to establish initial eligibility for accreditation. The information requested is necessary to establish the statutory and regulatory eligibility requirements, e.g., good character and reputation which includes basic identifying information, information concerning past representation, military service, employment, criminal activity and mental health of the applicant. The data is used to determine the applicant's eligibility for accreditation as a claims agent. The data collected under Filing of Representatives' Fee Agreements and Motions for Review of Such Fee Agreements is used to determine whether a fee agreement between claimants and their representative is in compliance with the law governing representation.

An agency may not conduct or sponsor, and a person is not required to respond to a collection of information unless it displays a currently valid OMB control number. The Federal Register Notice with a 60-day comment period soliciting comments on this collection of information was published on February 8, 2011, at page 6846.

Affected Public: Individuals and households.

Estimated Annual Burden:

a. Application for Accreditation as a Claims Agent, VA Form 21a—1,967 hours.

b. Filing of Representatives' Fee Agreements—1,222 hours

c. Motions for Review of Such Fee Agreements—78 hours.

Estimated Average Burden per Respondent:

a. Application for Accreditation as a Claims Agent or Attorney, VA Form 21a—45 minutes.

b. Filing of Representatives' Fee Agreements—12 minutes.

c. Motions for Review of Such Fee Agreements—2 hours.

Frequency of Response: On occasion.

Estimated Number of Respondents:

a. Application for Accreditation as a Claims Agent, VA Form 21a—2,623.

b. Filing of Representatives' Fee Agreements—5,869.

c. Motions for Review of Such Fee Agreements—39.

Dated: April 27, 2011.
By direction of the Secretary.
Denise McLamb,
Program Analyst, Enterprise Records Service.

[FR Doc. 2011-10580 Filed 4-29-11; 8:45 am]

BILLING CODE 8320-01-P